FEDERAL COMMUNICATIONS COMMISSION

47 CFR Part 0

[FCC 03-180]

Modification of the Commission's Rules; Local and State Government Advisory Committee

AGENCY: Federal Communications Commission.

ACTION: Final rule.

SUMMARY: This document adopts revisions to the rules governing the Commission's Local and State Government Advisory Committee, which is composed of 15 elected and appointed officials of municipal, county, state, and tribal governments, and advises the Commission on a range of telecommunications issues for which these governments explicitly or inherently share responsibility or administration with the Commission. The revisions rename the Committee the Intergovernmental Advisory Committee to reflect the reallocation of two additional membership slots to tribal governments; limit its term of operations to two years, with an option for reauthorization at the end of the two-year period; and provide for greater diversity in the Committee's membership, including increased representation of rural interests and expertise in homeland security matters. These modifications, and others adopted in the document, are intended to strengthen and improve the Committee's overall structure and operations and to maintain its intergovernmental nature and exemption from the requirements of the Federal Advisory Committee Act.

DATES: Effective September 4, 2003.

FOR FURTHER INFORMATION CONTACT: Jane Phillips, Intergovernmental Affairs, Consumer & Governmental Affairs Bureau, FCC, 202-418-1761.

SUPPLEMENTARY INFORMATION: This is a summary of the Commission's Order, FCC 03-180, adopted July 17, 2003, and released August 11, 2003. The complete text of the Order is available on the Commission's Internet site, at http://www.fcc.gov, and is also available for inspection and copying during normal business hours in the FCC Reference Information Center, Courtyard Level, 445 12th Street, SW., Washington, DC. The text may also be purchased from the Commission's copy contractor, Qualex International, Portals II, 445 12th Street, SW., CY-B4202, Washington, DC 20554 (telephone 202-863-2893). To request materials in accessible formats for people with disabilities (Braille, large print, electronic files, audio format), send an e-mail to fcc504@fcc.gov or call the Consumer & Governmental Affairs Bureau at (202) 418-0531 (voice), (202) 418-7365 (TTY). This Order can also be downloaded in text and ASCII formats at http://www.fcc.gov/statelocal/.

Synopsis of the Order

1. The Order adopts revisions to the rules governing the Commission's Local and State Government Advisory Committee (Committee or LSGAC), which is composed of 15 elected and appointed officials of municipal, county, state, and tribal governments. The Committee advises the Commission on a range of telecommunications issues affecting local, state, and tribal interests. The rule changes adopted in the Order are intended to facilitate the Committee's ability to continue to provide meaningful advice to the Commission by strengthening and improving its overall structure and operations.

2. Over the past six years, the LSGAC has provided ongoing advice and information to the Commission on a broad range of telecommunications issues, for which the Commission explicitly or inherently shares responsibility or administration with local, county, state, or tribal governments. These include cable and local franchising, public rights-of-way, facilities siting, universal service, barriers to competitive entry, and public safety communications. Since its inception in 1997, the Committee has filed 31 “Recommendations” with the Commission.

3. Because the LSGAC is composed exclusively of state, local and tribal officials, it is not subject to the procedures set forth in the Federal Advisory Committee Act (FACA), and presently has no charter or expiration date. In keeping with the Commission's other advisory committees, which have typically been chartered for a period of two years, § 0.701 has been modified to provide for the sunset of the newly-formed Committee two years following its first scheduled meeting. The two-year limit on the Committee's term of operations also limits the duration of individual members' service on the Committee. The Chairman of the Commission may extend the Committee's term of service for an additional two years, consistent with the overall mission, goals and objectives of the Committee.

4. To preserve and enhance the effectiveness of the Committee's operations on a going-forward basis, the number of meetings held per year has been limited to minimize the burdens on Committee members and enable member-officials to attend meetings themselves, rather than sending a representative in their stead.

5. Several other revisions adopted in the Order are intended to maintain and strengthen the Committee's intergovernmental nature so as to ensure its continued qualification as an advisory committee exempt from the FACA. The Order clarifies that Committee members must be officials within the meaning of 2 U.S.C. 1534(b), the intergovernmental exemption from the FACA accorded intergovernmental communications between Federal officials and officials of state, local and tribal governments “acting in their official capacities.” See 2 U.S.C. 1534(b). The intergovernmental exemption targets communications with officials involved in the governmental process at the state, local and tribal levels, and the clarification will help to ensure that the Committee can continue to operate with the informality and flexibility that have proven so effective in the past and that inhere in its FACA-exempt status.

6. At the beginning of 2003, the Committee was composed of one state official, six municipal officials, two county officials, one local government attorney, one public utility commissioner, and one tribal official, was weighted heavily on the local side, and lacked sufficient rural representation. To address questions of balance and diversity of representation, the Order modifies the composition of the Committee to seven local, five state, and three tribal officials.

7. The Order increases tribal representation on the Committee from one to three seats to enhance the Commission's opportunities to hear directly from tribal government leaders. The Commission believes that an increase in the tribal voice is warranted if tribes are to commit their very scarce human and financial resources to Committee activities. The Committee has been renamed the “Intergovernmental Advisory Committee” to reflect its more diverse representation.

8. The Order also establishes guidelines for the application process that will ensure continued diversity in Committee membership. This is important if the Commission is to have access to that wide range of viewpoints and expertise which is critical to informed decisionmaking.

9. At the beginning of this year, two thirds of the LSGAC's members represented areas west of the Mississippi River. In general, the members represented large, urban metropolitan areas and counties or states containing densely populated urban centers. The Commission intends to use the Public Notice that commences the application process to solicit members from underrepresented geographic areas and from rural areas, in particular, and will seek input and guidance from organizations representing state, local and tribal interests, such as the National Association of Regulatory Utility Commissioners, the National Congress of American Indians, the National Governors Association, the National League of Cities, the U.S. Conference of Mayors, and others.

10. The Commission will also seek Committee members with specific expertise in homeland security matters, because the Commission must work closely with the communications and public safety communities to ensure the reliability and security of the nation's communications infrastructure.

11. As with all other advisory committees and joint boards, the Chairman of the Commission, or Commissioner designated by the Chairman, will oversee the new Committee's activities and serve as liaison between the Committee and the Commission. The Committee will continue to receive logistical assistance and staff support directly from the Chief, Consumer & Governmental Affairs Bureau.

Ordering Clause

12. The rule modifications adopted constitute rules of agency organization, procedure and practice. Therefore, modification of § 0.701 is not subject to the notice and comment and effective date provisions of the Administrative Procedure Act. See 5 U.S.C. 553(b)(3)(A), (d). Accordingly, it is ordered that, pursuant to sections 4(i), 4(j), and 303(r) of the Communications Act of 1934, as amended, 47 U.S.C. 154(i), 154(j), and 303(r), subpart G, § 0.701 of the Rules and Regulations of the Federal Communications Commission, 47 CFR 0.701, modified as set forth, is adopted. The rule, as modified, is effective September 4, 2003.

13. Part 0 of the Commission's rules is amended as indicated in the Rule Changes section of this summary, effective September 4, 2003.

List of Subjects in 47 CFR Part 0

Organization and functions (Government agencies).

Federal Communications Commission.
Marlene H. Dortch,
Secretary.

Rule Changes

For the reasons discussed in the preamble, the Federal Communications Commission amends 47 CFR Part 0 as follows:

1. The authority citation for part 0 continues to read as follows:

Authority: Secs. 5, 48 Stat. 1068, as amended; 47 U.S.C. 155, 225, unless otherwise noted.

2. Revise § 0.701 to read as follows:

§ 0.701 Intergovernmental Advisory Committee.

(a) Purpose and term of operations. The Intergovernmental Advisory Committee (IAC) is established to facilitate intergovernmental communication between municipal, county, state and tribal governments and the Federal Communications Commission. The IAC will commence operations with its first meeting convened under this section and is authorized to undertake its mission for a period of two years from that date. At his discretion, the Chairman of the Federal Communications Commission may extend the IAC's term of operations for an additional two years, for which new members will be appointed as set forth in paragraph (b) of this section. Pursuant to Section 204(b) of the Unfunded Mandates Reform Act of 1995, 2 U.S.C. 1534(b), the IAC is not subject to, and is not required to follow, the procedures set forth in the Federal Advisory Committee Act. 5 U.S.C., App. 2 (1988).

(b) Membership. The IAC will be composed of the following 15 members (or their designated employees): Four elected municipal officials (city mayors and city council members); two elected county officials (county commissioners or council members); one elected or appointed local government attorney; one elected state executive (governor or lieutenant governor); three elected state legislators; one elected or appointed public utilities or public service commissioner; and three elected or appointed Native American tribal representatives. The Chairman of the Commission will appoint members through an application process initiated by a Public Notice, and will select a Chairman and a Vice Chairman to lead the IAC. The Chairman of the Commission will also appoint members to fill any vacancies and may replace an IAC member, at his discretion, using the appointment process. Members of the IAC are responsible for travel and other incidental expenses incurred while on IAC business and will not be reimbursed by the Commission for such expenses.

(c) Location and frequency of meetings. The IAC will meet in Washington, DC four times a year. Members must attend a minimum of fifty percent of the IAC's yearly meetings and may be removed by the Chairman of the IAC for failure to comply with this requirement.

(d) Participation in IAC meetings. Participation at IAC meetings will be limited to IAC members or employees designated by IAC members to act on their behalf. Members unable to attend an IAC meeting should notify the IAC Chairman a reasonable time in advance of the meeting and provide the name of the employee designated on their behalf. With the exception of Commission staff and individuals or groups having business before the IAC, no other persons may attend or participate in an IAC meeting.

(e) Commission support and oversight. The Chairman of the Commission, or Commissioner designated by the Chairman for such purpose, will serve as a liaison between the IAC and the Commission and provide general oversight for its activities. The IAC will also communicate directly with the Chief, Consumer & Governmental Affairs Bureau, concerning logistical assistance and staff support, and such other matters as are warranted.

[FR Doc. 03-22421 Filed 9-3-03; 8:45 am]

BILLING CODE 6712-01-P